DEPARTMENT OF DEFENSE

Office of the Secretary

[Docket ID DOD-2010-OS-0137]

Privacy Act of 1974; System of Records

AGENCY: Defense Finance and Accounting Service; DoD.

ACTION: Notice to add a system of records.

SUMMARY: The Defense Finance and Accounting Service (DFAS) is proposing to add a system of records notice to its inventory of record systems subject to the Privacy Act of 1974, (5 U.S.C. 552a), as amended.

DATES: This action will be effective without further notice on November 4, 2010, unless comments are received that would result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory Outlaw (317) 510-4591.

SUPPLEMENTARY INFORMATION: The Defense Finance and Accounting Service notices for systems of records subject to the Privacy Act of 1974 (5 U.S.C. 552a), as amended, have been published in the Federal Register and are available from the FOIA/PA Program Manager, Corporate Communications, Defense Finance and Accounting Service, DFAS-HKC/IN, 8899 E. 56th Avenue, Indianapolis, IN 46249-0150.

The proposed system report, as required by 5 U.S.C. 552a(r) of the Privacy Act of 1974, as amended, was submitted on September 21, 2010, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: September 29, 2010.
Mitchell S. Bryman,
Alternate OSD Federal Register Liaison Officer, Department of Defense.

T7205b

System Name:

Standard Finance System (STANFINS).

System Location:

Defense Information Systems Agency, Defense Enterprise Computing Center, St. Louis, MO 63120-1703.

Defense Finance and Accounting Service, Indianapolis, IN 46249-2700.

Defense Finance Accounting Service, Columbus, OH 43218-2317.

Defense Finance and Accounting Service, Rome, NY 13441-4527.

Defense Finance and Accounting Service, Japan, Bldg 104, Unit 5220, APO AP 96328-5220.

For a list of other DoD sites utilizing the system contact the Standard Finance System, System Manager, Defense Finance and Accounting Service—Indianapolis, Information Technology Directorate, 8899 East 56th Street, Indianapolis, IN 46249-2700.

Categories of Individuals Covered by the System:

Active duty military members, Army, Army Reserve and National Guard military members and other users of the Defense Commissary Agency.

Categories of Records in the System:

Individual's name, Social Security Number (SSN), home address and telephone number, military branch of service, military status, and disbursing and accounting transaction data.

Authority for Maintenance of the System:

5 U.S.C. 301, Departmental Regulations; Department of Defense Financial Management Regulation (DoDFMR) 7000.14-R, Volume 5; 31 U.S.C. 3511, Prescribing accounting requirements and developing accounting systems; 31 U.S.C. 3512, Executive agency accounting and other financial management reports and plans; 31 U.S.C. 3513, Finance Reporting and Accounting System; and E.O. 9397 (SSN), as amended.

Purpose(s):

Provides comprehensive accounting support and effective General Ledger control over all resources. The system processes obligations, accruals, disbursements and collections utilizing interfaces and data entry and will be used the system for processing these accounting transactions.

Routine Uses of Records Maintained in the System, Including Categories of Users and the Purposes of Such Uses:

In addition to those disclosures generally permitted under 5 U.S.C. 552a(b) of the Privacy Act of 1974, these records contained therein may specifically be disclosed outside the DoD as a routine use pursuant to 5 U.S.C. 552a(b)(3) as follows:

The DoD `Blanket Routine Uses' published at the beginning of the DFAS compilation of systems of records notices apply to this system.

Policies and Practices for Storing, Retrieving, Accessing, Retaining, and Disposing of Records in the System:

Storage:

Electronic storage media.

Retrievability:

By name and Social Security Number (SSN).

Safeguards:

Records are maintained in a controlled facility. Physical entry is restricted by the use of locks, guards, and is accessible only to authorized personnel. Access to records is limited to person(s) responsible for servicing the record in performance of their official duties and who are properly screened and cleared for need-to-know. Access to computerized data is restricted by passwords, which are changed according to agency security policy.

Retention and Disposal:

Cut off at end of fiscal year. Destroy 6 years, 3 months after the later of either closure of appropriate account or liquidation of all obligations in the closed account.

Records are disposed of by degaussing, burning, tearing, recycling, melting, chemical decomposition, pulping, pulverizing, shredding, mutilation, overwriting, and incineration.

System Manager(S) and Address:

Defense Finance and Accounting Service, Information and Technology Services, 8899 East 56th Street, Indianapolis, IN 46249-2700.

Notification Procedure:

Individuals seeking to determine whether information about themselves is contained in this record system should address written inquiries to the Defense Finance and Accounting Service, Freedom of Information/Privacy Act Program Manager, Corporate Communications, 8899 East 56th Street, Indianapolis, IN 46249-0150.

Individuals should furnish full name, Social Security Number (SSN), current address and telephone number.

Record Access Procedures:

Individuals seeking access to information about themselves contained in this system should address written inquiries to Defense Finance and Accounting Service, Freedom of Information/Privacy Act Program Manager, Corporate Communications, 8899 East 56th Street, Indianapolis, IN 46249-0150.

Individuals should furnish full name, Social Security Number (SSN), current address and telephone number.

Contesting Record Procedures:

The DFAS rules for accessing records, for contesting contents and appealing initial agency determinations are published in DFAS Regulation 5400.11-R; 32 CFR part 324; or may be obtained from Defense Finance and Accounting Service, Freedom of Information/Privacy Act Program Manager, Corporate Communications, 8899 East 56th Street, Indianapolis, IN 46249-0150.

Record Source Categories:

Individual or DoD military component.

Exemptions Claimed for the System:

None.

[FR Doc. 2010-24844 Filed 10-4-10; 8:45 am]

BILLING CODE 5001-06-P